DEPARTMENT OF DEFENSE

Office of the Secretary

Renewal of the Defense Intelligence Agency Science and Technology Advisory Board

ACTION: Notice.

SUMMARY: The Defense Intelligence Agency Science and Technology Advisory Board (DIA/STAB) has been renewed in consonance with the public interest, and in accordance with the provisions of Public Law 92-463, the “Federal Advisory Committee Act.”

The DIA/STAB provides scientific and technical expertise and advice to the Secretary of Defense and the Director Defense Intelligence Agency on current and long-term operational and intelligence matters conferring Defense Intelligence Agency's mission.

The Committee will continue to be composed of 30 to 36 members from government agencies, and senior officials from large and small corporations, private consultants, and the academic community. Efforts will be made to ensure that there is a fairly balanced membership in terms of the functions to be performed and the interest groups represented.

FOR FURTHER INFORMATION CONTACT: Please contact Victoria Prescott, Defense Intelligence Agency, telephone: 202-231-4930.

Dated: September 15, 2000.
Patricia L. Toppings,
Alternate OSD Federal Register Liaison Officer, Department of Defense.

[FR Doc. 00-24332 Filed 9-21-00; 8:45 am]

BILLING CODE 5001-10-M